DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KD, Regional Offices of ACF (62 FR49243) as last amended, September 19, 1997. This notice reflects the restructuring of the Midwest Regional Hub in Region V.

This Chapter is amended as follows:

1. Chapter KD, Regional Offices of ACF

A. Delete KD5.10 Organization in its entirety and replace with the following:

KD5.10 Organization. The Administration for Children and Families, Region 5, is organized as follows:

Office of the Regional Hub Director (KD5A)

Office of Family Self-Sufficiency Programs (KD5C)

Office of Family and Child Development Programs (KD5D)

B. Delete KD5.20 Functions, Paragraph A, in its entirety and replace with the following:

KD5.20 Functions. A. The Office of the Regional Hub Director is headed by a Director, who reports to the Assistant Secretary for Children and Families through the Director, Office of Regional Operations. In addition, the Office of the Regional Hub Director has a Deputy Regional Hub Director. The Office is responsible for the Administration for Children and Families' key national goals and priorities. It represents ACF's regional interests, concerns, and relationships within the Department and among other Federal agencies, and focuses on State agency culture change, more effective partnerships, collaborative relationships and improved customer service. The Office provides executive leadership and direction to state, county, city, and tribal governments, as well as public and private local grantees to ensure effective and efficient program and financial management. It ensures that these entities conform to federal laws, regulations, policies and procedures governing the programs, and exercises all delegated authorities and responsibilities for oversight of the programs.

The Office takes action to approve state plans and submits its recommendations to the Assistant Secretary for Children and Families concerning state plan disapproval. The Office contributes to the development of national policy based on regional perspectives for all ACF programs. It oversees ACF operations and the management of ACF regional staff; coordinates activities across regional programs; coordinates Hub initiatives and operations; and assures that goals and objectives are carried out. The Office alerts the Assistant Secretary for Children and Families to problems and issues that may have significant regional, hub or national impact. It represents ACF at the regional level in executive communications within ACF, with the HHS Regional Director, other HHS operating divisions, other federal agencies, and public or private local organizations representing children and families.

The Deputy Regional Hub Director serves as the full deputy or “alter ego” to the Regional Hub Director, Administration for Children and Families. The Deputy assists the Hub Director with responsibility for providing executive direction, leadership and coordination to all ACF programs, financial operations and related activities in the Region and Hub. The Deputy has primary responsibility for managing the day to day operations. In the absence of the Hub Director, the Deputy acts on all matters within the jurisdiction of the Hub Director with full authority.

Within the Office of the Regional Hub Director, are the Management and Administration, Internal Systems and Technology, and Fiscal Integrity Teams along with the Grants Officer. The Deputy supervises and directs the activities of these teams focusing on regional administrative functions, including budget planning and execution, procurement, facility and property management, financial management, internal systems, employee relations, human resources development, performance management, media inquiries and public affairs activities.

1. The Management and Administration Team directs and facilitates the development of regional work plans related to the overall ACF strategic plan; tracks, monitors and reports on regional and Hub progress in the attainment of ACF national goals and objectives; and coordinates and manages special and sensitive projects. Additionally it manages administrative functions, budget planning and execution and human resource development. It serves as the focal point for public affairs, in accordance with the ACF Office of Public Affairs and in conjunction with the HHS Regional Director; and assists the Regional Hub Director in the management of cross-cutting initiatives and activities among the regional and Hub components.

2. The Internal Systems and Technology Team oversees the management and coordination of automated systems, facility management, telecommunications and web based operations for the region. It provides data management support to all Regional Office components, including the development of automated systems applications to support and enhance program, fiscal and administrative operations.

3. The Fiscal Integrity Team is responsible for providing centralized financial management and technical administration of certain ACF formula, discretionary, entitlement and block grant programs. These programs include Temporary Assistance to Needy Families, Child Support, Child Welfare Services, Foster Care and Adoption Assistance, Child Abuse and Neglect, Developmental Disabilities and Runaway and Homeless Youth. It provides expert grants management technical support to the Office of Family Self-Sufficiency and the Office of Family and Child Development to resolve complex problems in such areas as cost allocation, accounting principles, audit, deferrals and disallowances.

4. The Grants Officer, functioning independently of all program offices, provides program staff with expertise in the technical and other non-programmatic areas of grants administration, and provides appropriate internal controls and checks and balances to ensure financial discretionary grants integrity in all phases of the grants process. The Grants Officer, in conjunction with the Fiscal Integrity Team, provides guidance to program offices on more complex financial management issues. The Grants Officer approves and signs all discretionary grants.

C. Delete KD5.20 Functions, Paragraph B, in its entirety and replace with the following:

KD5.20 Functions. B. The Office of Family Self-Sufficiency Programs is headed by a Director who reports to the Deputy Regional Hub Director. The Office of Family Self-Sufficiency represents the Regional Hub Director in dealing with ACF central office, states and grantees on all program and financial management policy matters for programs under its jurisdiction. It provides guidance and direction to States and grantees to improve the efficiency and effectiveness of ACF programs. It alerts the Deputy Regional Hub Director to problems or issues that have significant implications for the programs.

The Office consists of two branches operating collaboratively within a Tri-State team environment to administer Child Support Enforcement; Child Welfare Services, Foster Care and Adoption Assistance, Child Abuse and Neglect; Temporary Assistance to Needy Families and Runaway and Homeless Youth Programs for assigned states. The two branches provide policy guidance to states to assure consistent and uniform adherence to federal requirements governing formula, entitlement, block and discretionary grant programs. The Two Branches are the Illinois, Indiana, Michigan Branch and the Minnesota, Ohio, Wisconsin Branch.

The Office also consists of the Program Integration and Collaboration Team and the External Systems and Data Team. The Program Integration and Collaboration Team provides administrative support, training, and facilitation of cross-cutting program initiatives and projects. The External Systems and Data Team has responsibility for oversight of state systems projects for ACF programs. In coordination with the Hub and other Regional Office components, it monitors state systems projects and is the focal point for technical assistance to states and grantees on the development and enhancement of automated systems.

D. Delete KD5.20 Functions, Paragraph C, in its entirety and replace with the following:

KD5.20 Functions. C. The Office of Family and Child Development is headed by a Director who reports to the Deputy Regional Hub Director. The Office is responsible for providing centralized program, financial management and technical administration of certain ACF discretionary, formula and block grant programs, such as Head Start, Early Head Start, Developmental Disabilities and the Child Care and Development Fund. The Office of Family and Child Development represents the Regional Hub Director in dealing with ACF central office, states and grantees on all program and financial management policy matters for programs under its jurisdiction. It alerts the Deputy Regional Hub Director to problems or issues that have significant implications for the programs.

The Office consists of three branches operating collaboratively within a Bi-State team environment to administer Head Start, Early Head Start and Child Care programs and a Program Integration and Collaboration Team. The Program Integration and Collaboration Team provides administrative support, training and facilitation of cross-cutting program initiatives and projects in addition to administering the Developmental Disabilities Program. The Head Start and Child Care branches provide policy guidance to states and grantees to assure consistent and uniform adherence to federal requirements governing discretionary and block grant programs. It provides guidance and direction to States and grantees to improve the efficiency and effectiveness of ACF programs.

A Financial Management Officer is located in each branch of the Office of Family and Child Development to provide expertise in business and other non-programmatic areas of grants administration and to help ensure that grantees fulfill requirements of law, regulations and administrative policies. The Office establishes regional financial management priorities; reviews cost allocation plans, and makes recommendations to the Regional Hub Director to disallow costs under ACF discretionary, formula and block grant programs. The Office issues grant awards based on a review of project objectives, budget projections and proposed funding levels. As applicable, it makes recommendations on the clearance and closure of audits of state and grantee programs, paying particular attention to deficiencies that decrease the efficiency and effectiveness of ACF programs and taking steps to resolve such deficiencies.

Dated: February 10, 2000.
Diann Dawson,
Director, Office of Regional Operations.

[FR Doc. 00-3738 Filed 2-16-00; 8:45 am]

BILLING CODE 4184-01-P